DEPARTMENT OF HOMELAND SECURITY

U.S. Customs and Border Protection

[CBP Dec. No. 13-11]

Expansion of Global Entry to Additional Airports

AGENCY: U.S. Customs and Border Protection; Department of Homeland Security.

ACTION: General notice.

SUMMARY: The Global Entry international trusted traveler program allows pre-approved, low-risk participants expedited entry into the United States using Global Entry kiosks located at designated airports. U.S. Customs and Border Protection (CBP) previously announced in the Federal Register twenty-four designated Global Entry airports. This document announces the expansion of the program to include eight additional designated airports.

DATES: Global Entry is already operational at all eight additional airport locations.

FOR FURTHER INFORMATION CONTACT: Larry Panetta, Office of Field Operations, (202) 344-1253, Larry.Panetta@dhs.gov.

SUPPLEMENTARY INFORMATION:

Background

Global Entry Program

Global Entry is a voluntary program that allows for the expedited clearance of pre-approved, low-risk travelers arriving in the United States at Global Entry kiosks located at designated airports. The Global Entry final rule, published in the Federal Register on February 6, 2012 (77 FR 5681), promulgated the regulation to establish Global Entry as an ongoing regulatory program and contains a detailed description of the program, the eligibility criteria, the application and selection process, and the initial twenty airports. See 8 CFR 235.12. Global Entry was expanded to four additional airports in a Federal Register notice published on March 26, 2012. (77 FR 17492.) Travelers who wish to participate in Global Entry must apply via the CBP Global Entry Web site, http://www.globalentry.gov or through the Global On-Line Enrollment System (GOES) Web site, https://goes-app.cbp.dhs.gov. Applications must be completed and submitted electronically.

The twenty-four airports previously designated for Global Entry include:

• John F. Kennedy International Airport, Jamaica, New York (JFK);

• George Bush Intercontinental Airport, Houston, Texas (IAH);

• Washington Dulles International Airport, Sterling, Virginia (IAD);

• Los Angeles International Airport, Los Angeles, California (LAX);

• Hartsfield-Jackson Atlanta International Airport, Atlanta, Georgia (ATL);

• Chicago O'Hare International Airport, Chicago, Illinois (ORD);

• Miami International Airport, Miami, Florida (MIA);

• Newark Liberty International Airport, Newark, New Jersey (EWR);

• San Francisco International Airport, San Francisco, California (SFO);

• Orlando International Airport, Orlando, Florida (MCO);

• Detroit Metropolitan Wayne County Airport, Romulus, Michigan (DTW);

• Dallas Fort Worth International Airport, Dallas, Texas (DFW);

• Honolulu International Airport, Honolulu, Hawaii (HNL);

• Boston—Logan International Airport, Boston, Massachusetts (BOS);

• Las Vegas—McCarran International Airport, Las Vegas, Nevada (LAS);

• Sanford—Orlando International Airport, Sanford, Florida (SSB);

• Seattle—Tacoma International Airport-SEATAC, Seattle, Washington (STT);

• Philadelphia International Airport, Philadelphia, Pennsylvania (PHL);

• San Juan—Luis Munos Marin International Airport, San Juan, Puerto Rico (SAJ);

• Ft. Lauderdale Hollywood International Airport, Fort Lauderdale, Florida (FLL), including the General Aviation Facility private aircraft terminal;

• Minneapolis-St. Paul International Airport, Minneapolis, Minnesota (MSP);

• Charlotte Douglas International Airport, Charlotte, North Carolina (CLT);

• Phoenix Sky Harbor International Airport, Phoenix, Arizona (PHX);

• Denver International Airport, Denver, Colorado (DEN).

The preamble to the final rule states that when CBP is ready to expand Global Entry to additional airports and has selected the airports, CBP will publish an announcement in the Federal Register and post the information on the Web site http://www.globalentry.gov.

Expansion of Global Entry Program to Additional Airports

CBP is expanding the Global Entry program to include the following eight additional airports:

• Baltimore/Washington International Thurgood Marshall Airport, Baltimore, Maryland (BWI);

• John Wayne Airport, Santa Ana, California (SNA);

• Portland International Airport, Portland, Oregon (PDX);

• Raleigh-Durham International Airport, Morrisville, North Carolina (RDU);

• Salt Lake City International Airport, Salt Lake City, Utah (SLC);

• San Antonio International Airport, San Antonio, Texas (SAT);

• San Diego International Airport, San Diego, California (SAN);

• Tampa International Airport, Tampa, Florida (TPA).

Global Entry is now operational at all eight of these airports. A list of all Global Entry airports is posted on the CBP Global Entry Web site at http://www.globalentry.gov.

David Murphy,
Acting Assistant Commissioner, Office of Field Operations.

[FR Doc. 2013-15087 Filed 6-24-13; 8:45 am]

BILLING CODE 9111-14-P